DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table in the SUPPLEMENTARY INFORMATION section. The FIRM and FIS report are the basis of the floodplain management measures that a community is required either to adopt or to show evidence of having in effect in order to qualify or remain qualified for participation in the Federal Emergency Management Agency's (FEMA's) National Flood Insurance Program (NFIP).

DATES: The date of January 17, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Carteret County, North Carolina and Incorporated Areas
Docket No.: FEMA-B-1718 and FEMA-B-2298
Town of Atlantic Beach | Town Hall, 125 West Fort Macon Road, Atlantic Beach, NC 28512.
Town of Bogue | Town Hall, 121 Chimney Branch Road, Bogue, NC 28570.
Town of Cape Carteret | Town Hall, 102 Dolphin Street, Cape Carteret, NC 28584.
Town of Cedar Point | Town Hall, 427 Sherwood Avenue, Cedar Point, NC 28584.
Town of Emerald Isle | Town Hall, 7500 Emerald Drive, Emerald Isle, NC 28594.
Town of Indian Beach | Town Hall, 1400 Salter Path Road, Indian Beach, NC 28512.
Town of Newport | Town Hall, 200 Howard Boulevard, Newport, NC 28570.
Town of Peletier | Town Hall, 1603 Highway 58, Peletier, NC 28584.
Town of Pine Knoll Shores | Town Hall, 100 Municipal Circle, Pine Knoll Shores, NC 28512.
Unincorporated Areas of Carteret County | Carteret County Planning and Inspections Department, 3820 Bridges Street, Suite B, Morehead City, NC 28557.
Duplin County, North Carolina and Incorporated Areas
Docket No.: FEMA-B-1523
Town of Wallace | Municipal Building, 316 East Murray Street, Wallace, NC 28466.
Unincorporated Areas of Duplin County | Duplin County Emergency Services and Building Inspections, 209 Seminary Street, Kenansville, NC 28349.
Martin County, North Carolina and Incorporated Areas
Docket No.: FEMA-B-2303
Unincorporated Areas of Martin County | Martin County Governmental Center, 305 East Main Street, Williamston, NC 27892.
Pender County, North Carolina and Incorporated Areas
Docket No.: FEMA-B-1523 and FEMA-B-2317
Town of Burgaw | City Hall, 109 North Walker Street, Burgaw, NC 28425.
Town of Surf City | Surf City Municipal Complex, 214 West Florence Way, Hampstead, NC 28443.
Town of Topsail Beach | Building Inspection Department, 820 South Anderson Boulevard, Topsail Beach, NC 28445.
Town of Watha | Town Hall, 425 Watha Road, Watha, NC 28478.
Unincorporated Areas of Pender County | Pender County Planning Department, 805 South Walker Street, Burgaw, NC 28425.
Village of Saint Helena | Village Hall, 305 East Main Street, Saint Helena, NC 28425.
Washington County, North Carolina and Incorporated Areas
Docket No.: FEMA-B-2303
Town of Creswell | Town Hall, 104 South 6th Street #68, Creswell, NC 27928.
Town of Plymouth | Washington County Permits and Inspections, 116 Adams Street, Plymouth, NC 27962.
Town of Roper | Mayor's Office, 301 West Buncombe Street, Roper, NC 27970.
Unincorporated Areas of Washington County | Washington County Permits and Inspections, 116 Adams Street, Plymouth, NC 27962.

[FR Doc. 2024-24353 Filed 10-21-24; 8:45 am]

BILLING CODE 9110-12-P